FEDERAL COMMUNICATIONS COMMISSION

Notice of Public Information Collection(s) Being Reviewed by the Federal Communications Commission, Comments Requested

January 25, 2005.

Summary: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

Dates: Written Paperwork Reduction Act (PRA) comments should be submitted on or before April 4, 2005. If you anticipate that you will be submitting comments, but find it difficult to do so within the period of time allowed by this notice, you should advise the contact listed below as soon as possible.

Addresses: Direct all Paperwork Reduction Act (PRA) comments to Judith B. Herman, Federal Communications Commission, Room 1-C804, 445 12th Street, SW., Washington, DC 20554 or via the Internet to Judith-B.Herman@fcc.gov.

For Further Information Contact: For additional information or copies of the information collection(s), contact Judith B. Herman at 202-418-0214 or via the Internet at Judith-B.Herman@fcc.gov.

Supplementary Information:

OMB Control No.: 3060-1061.

Title: Earth Station on Board Vessels (ESV).

Form No.: N/A.

Type of Review: Revision of a currently approved collection.

Respondents: Business or other for-profit.

Number of Respondents: 15.

Estimated Time Per Response: 2 hours (average).

Frequency of Response: On occasion reporting requirement and recordkeeping requirement.

Total Annual Burden: 113 hours.

Total Annual Cost: $15,000.

Privacy Act Impact Assessment: N/A.

Needs and Uses: The Federal Communications Commission (“Commission”) is revising OMB Control No. 3060-1061 to reflect the decisions of the Report and Order (R&O) titled, “In the Matter of Procedures to Govern the Use of Satellite Earth Stations on Board Vessels (ESV) in the 5925-6425 MHz/3700-4200 MHz Bands and 14.0-14.5 GHz/11.7-12.2 GHz Bands,” IB Docket No. 02-10, FCC 04-286. The Commission adopted the R&O on December 15, 2004 and released it on January 6, 2005. This rulemaking established licensing and service rules for ESVs operating in the 5925-6425 MHz/3700-4200 MHz Bands (C-band) and 14.0-14.5 GHz/11.7-12.2 GHz Bands (Ku-band).

The R&O includes the following new Paperwork Reduction Act (PRA) reporting requirements: (1) C-Band and Ku-Band operators (“ESV operators”) must collect and maintain vessel tracking data to assist the Commission and affected operators in identifying and resolving sources of interference; (2) as a condition of licensing, applicants proposing ESV operations in the 14.0-14.05 GHz band and planning to travel within 100km of these sites, must coordinate through the National Telecommunications and Information Administration (NTIA) Interdepartment Radio Advisory Committee (IRAC) and, if necessary, the appropriate government agency to resolve any potential concerns; and (3) ESV operators must have a contact that is available in the United States 24 hours a day, 7 days a week, to respond to Fixed Satellite (FS) operators' requests. The name, telephone number, and other pertinent information of the contact will be posted on the Commission's Web site, http://www.fcc.gov.

The Commission established licensing and service rules to govern ESV operations and to prevent interference to other satellite operators within the Ku-bands and C-bands. ESV operators must submit applications (FCC Form 312) and exhibits (Schedule B) to the Commission to demonstrate that they comply with the Commission's legal and/or engineering rules. Additionally, the Commission requires a myriad of technical information such as frequency of operation, maximum transmit power, antenna diameter, antenna height above sea level and velocity of the vessel to evaluate potential interference to fixed satellites from ESVs. The purposes of this information collection are as follows: (1) Establish licensing and service rules for ESVs in the Ku-band and C-band; (2) prevent harmful interference to Fixed Services (FS), Fixed Satellite Service (FSS) and other satellite services and (3) further the Commission's goals to manage spectrum efficiently and (4) advance the provision of broadband telecommunications services that will benefit U.S. citizens on passenger, government (military and civilian), cargo and large recreational vessels. Without such information, the Commission would not be able to take the necessary measures to prevent harmful interference to satellite services from ESVs. Finally, the Commission would not be able to advance its goals of managing spectrum efficiently and promoting broadband technologies to benefit American consumers throughout the United States and abroad.

Federal Communications Commission.
Marlene H. Dortch,
Secretary.

[FR Doc. 05-1938 Filed 2-1-05; 8:45 am]

BILLING CODE 6712-01-P